DEPARTMENT OF DEFENSE

Department of the Navy

NATIONAL AERONAUTICS AND SPACE ADMINISTRATION

Notice of Public Meetings for Pacific Missile Range Facility and Kōke'e Park Geophysical Observatory Environmental Impact Statement (ID# EISX-007-17-USN-1749043386)

AGENCY: Department of the Navy (DoN), Department of Defense (DoD); National Aeronautics and Space Administration (NASA).

ACTION: Notice.

SUMMARY: Pursuant to the National Environmental Policy Act (NEPA) and regulations implemented by the DoN and NASA, as joint lead agencies, DoN and NASA have prepared and filed with the United States (U.S.) Environmental Protection Agency a Draft Environmental Impact Statement(EIS) for retaining the use of state lands on Kaua'i, Hawai'i (HI) in support current operations that occur on these lands. The Draft EIS includes an analysis of the potential environmental effects associated with the continued long-term DoD use of 8,172 acres of State lands on Kaua'i for operational continuity and sustainment (in support of continued military training, testing, and facility operations) at the Pacific Missile Range Facility (PMRF), and the continued long-term NASA use of 23 acres of State lands on Kaua'i in support of continued operations (including measurements of the Earth's rotation and local land motion) at the Kōke'e Park Geophysical Observatory (KPGO). As the Proposed Action involves State lands, the EIS is a joint NEPA and Hawai'i Environmental Policy Act (HEPA) (as governed by Hawai'i Revised Statutes (HRS) Chapter 343), and Hawai'i Administrative Rules (HAR) (implementing HRS Chapter 343) document; therefore, the public review processes will run concurrently and will jointly meet NEPA and HEPA requirements.

DATES: The 48-day public comment period begins June 20, 2025, and ends August 7, 2025. In support of NEPA and HEPA requirements, in-person public meetings (with some of the meetings live-broadcasted) will be held in Kaua'i, HI from July 15 through 17, 2025, to provide an overview of the Draft EIS, answer questions from the public, and provide the public an opportunity to provide oral comments. Each meeting will also provide an opportunity to learn how the DoN and NASA are complying with the Section 106 process of the National Historic Preservation Act (NHPA) and to comment on potential effects on historic properties. The public can submit comments during the Draft EIS public review and comment period at one of the public meetings, electronically via the project website (https://pmrf-kpgo-eis.com/), or via U.S. mail. Public comments on the Draft EIS must be postmarked or received online by 11:59 p.m. HI Standard Time (HST) Thursday, August 7, 2025, for consideration in the Final EIS.

Three in-person public meetings with a virtual component will be held as follows:

1. July 15, 2025, from 5 p.m. to 8 p.m. HST at Kaua'i Veterans Center, 3215 Kaua'i Veterans Memorial Highway, Līhu'e, HI 96766;

2. July 16, 2025, from 5 p.m. to 8 p.m. HST at Kekaha Neighborhood Center, 8130 Elepaio Road, Kekaha, HI 96752;

3. July 17, 2025, from 5 p.m. to 8 p.m. HST at Sheraton Coconut Beach Resort, 650 Aleka Loop, Kapa'a, HI 96746.

ADDRESSES: Comments on the Draft EIS may be provided at the public meetings, electronically through the project website at: https://pmrf-kpgo-eis.com/, or by U.S. mail to: Naval Facilities Engineering Systems Command, Hawai'i; Attention: PMRF and KPGO Real Estate EIS Project Manager, Ms. Kerry Ling; 400 Marshall Road, Building X-11; Pearl Harbor, HI 96860.

FOR FURTHER INFORMATION CONTACT: DoN: Commander, Navy Region Hawai'i, Attn: Mr. Daniel Sanford, Outreach Public Affairs Specialist, by telephone (808-473-2890) or email (Daniel.f.sanford.civ@us.navy.mil and chrh.pao@us.navy.mil).

NASA: Shari A. Miller, NASA; EIS Project Manager, by telephone (757-824-2327) or email (Shari.A.Miller@nasa.gov), or visit the project website: https://pmrf-kpgo-eis.com/.

SUPPLEMENTARY INFORMATION: The DoN's purpose for the Proposed Action is to maintain long-term DoD use of 8,172 acres of State lands (including leaseholds and easement lands) on Kaua'i, HI for operational continuity and sustainment of the military readiness mission. NASA's purpose for the Proposed Action is to maintain long-term use of 23 acres of State land (including leaseholds and easement lands) on Kaua'i, HI for continued operations of KPGO. The Proposed Action is needed because the existing real estate agreements for these state lands are set to expire between 2027 and 2030. The Navy use of these state lands is required to maintain technological and safety capabilities supporting PMRF training and testing. For NASA, these state lands are critical to maintain data collection efforts of global significance.

It also ensures the continued conservation management by the DoN and NASA of natural and cultural resources on these lands.

For the State of HI Board of Land and Natural Resources (BLNR), in addition to its role as the lessor of state lands, the proposed real estate action presents an opportunity for the agency to secure a revenue source to support its management of public lands and associated environmental and conservation programs. Fees from leases and easements would be put into a state fund, as required by law. Twenty percent of ceded land revenue (fees from the leaseholds and easement lands) would go to the Office of Hawaiian Affairs, and the rest to the Special Land Development Fund, as required by law.

By ensuring continued DoN and NASA operations on Kaua'i, the real estate action would also preserve local jobs and income for the residents of Kaua'i, financially contribute to the overall economic well-being of Kaua'i, and maintain continued conservation management of natural and cultural resources on state lands at no cost to the State of HI.

The DoN and NASA are considering two Action Alternatives that are carried forward for analysis in the EIS, along with the No Action Alternative. The type of real estate agreement differentiates the alternatives.

Alternative 1 (Succeeding Current Real Estate Agreements): The DoN and NASA would secure new real estate agreements with the State of HI for the same areas they currently hold in leaseholds and easements with no change to current footprint or use of state lands.

Alternative 2 (Fee Simple Acquisition of Current Real Estate Agreements for Leaseholds): The DoN and NASA would aquire the land currently held in leaseholds with no change to current footprint or use and obtain use of the same easements. This alternative would result in the aquisition of up to 700 acres (684-DoN, 16-NASA) of previously leased land.

Alternative 3 (No Action Alternative): The State of HI would not grant the DoN and NASA any new real estate agreements after expiration of the leases and easements between 2027 to 2030.

Consistent with NEPA and HAR section 11-200.1-24(b), the scope of the analysis for the alternatives in this EIS is proportionate to the potential for environmental impacts. The following resources may be impacted and and are analyzed in this EIS: archaeological and architectural resources, cultural practices, biological resources, land use and access, socioeconomics, water resources, utilities, public health and safety, air quality and greenhouse gases, transportation, hazardous materials and wastes, and visual resources. Direct, indirect, and reasonably foreseeable effects on these resource areas are analyzed in the Draft EIS. There are no potential effects to airspace, marine navigation, and marine biological resources; therefore, these resources were not analyzed in the Draft EIS.

The leaseholds and easement lands located in the Project Area are entirely land-based. The Proposed Action does not pertain to activities occurring in airspace or affecting the designation, management, or use of airspace over Kaua'i or surrounding waters.

The Proposed Action is associated with the effects of securing additional real estate arrangement to continue the activities on the lease lands. Use of Main Base PMRF for land-based training and testing has been evaluated previously in the 1999 PMRF EIS, 2008 HI Range Complex (HRC) EIS, and most recently in the Draft PMRF Land Based Training and Testing Environmental Assessment (EA) covering proposed additional activities across Army, Navy, Air Force, and Marines.

The lands associated with the Proposed Action do not extend into nearshore waters, and they do not affect marine navigation. Leaseholds and easement lands associated with the Proposed Action would not affect marine navigation, marine biological resources, and Navy at-sea activities or other in-water standard operating procedures associated with PMRF land-based activities. The types of offshore designations, marine navigation procedures, and public notifications (e.g., Local Notices to Mariners) would remain unchanged for PMRF.

Activities in the leaseholds and easement areas do not involve stressors that could affect marine resources, such as airborne and underwater noise, underwater energy activities (e.g., explosives or electromagnetic devices), placement of materials or structures in the ocean environment, expended materials in the ocean environment (involving the potential for contamination or for ingestion by marine fauna), or physical disturbance in the ocean environment (such as entanglement and physical strikes).

Impacts to airspace, marine navigation, and marine resources from existing training and testing are analyzed in the Hawai'i-Southern California Training and Testing Final EIS/OEIS (DoN, 2018), the 2019 PMRF Department of Energy Finding of No Significant Impact for Continued Operation of the Kaua'i Test Facility Sandia National Laboratories, and the Hawai'i-California Training and Testing Draft EIS/OEIS (DoN, 2024). Any additional environmental planning that addresses future on-land training and testing at PMRF completed after the PMRF and KPGO Real Estate Draft EIS will be incorporated by reference into the Final EIS.

In addition to Best Management Practices and community coordination, actions the DoN and NASA are currently taking to mitigate, avoid, and minimize impacts on the state lands would continue to be implemented under the Action Alternatives. Additionally, the DoN and NASA have identified Enhanced Management Measures to provide additional protections for the 'āina.

Under the No Action Alternative and pursuant to the existing real estate agreements, environmental and cultural responsibilities would revert to the State of HI. Following complex negotiations with the State of HI, actions related to these transfers could include the removal of existing buildings, structures, and infrastructure, resulting in potential adverse impacts to environmental and cultural resources.

The DoN and NASA are coordinating and consulting as required by the NHPA, the Endangered Species Act, the Clean Water Act, and the Coastal Zone Management Act, including with BLNR under HRS chapter 183C and HAR chapter 13-5, HAR chapter 6E, and other laws and regulations determined to be applicable to the project.

This EIS satisfies both Federal and State of HI requirements and provides the necessary analyses to allow the DoN, NASA, and BLNR to consider the environmental effects of the Proposed Action and alternatives as part of their decision-making. The DoN and NASA distributed the Draft EIS to government agencies they are consulting with and to other stakeholders.

The Draft EIS is available for public review on the project website at https://pmrf-kpgo-eis.com/ and at these public libraries:

1. Hawai'i State Library, 478 S King St., Honolulu, HI 96813.

2. Līhu'e Public Library, 4344 Hardy St., Līhu'e, HI 96766.

3. Waimea Public Library, 9750 Kaumuali'i Hwy, Waimea, HI 96796.

The public involvement process is helpful in identifying public concerns and local issues to be considered during the development of the EIS and encouraging comments on the environmental analysis. Federal, State, and local agencies; Native Hawaiian Organizations; nongovernmental organizations; and interested persons are encouraged to provide substantive comments on the Proposed Action and the environmental analysis, as well as the project's potential to affect historic properties as it relates to section 106 of the NHPA. All comments provided at the in-person public meetings, electronically via the project website, or mailed to the address provided in the ADDRESSES section will be considered during the development of the Final EIS.

In-person public meetings with a virtual component will include an open-house information session, a short presentation by DoN and NASA representatives, and a public oral comment session. The presentation will begin at approximately 6 p.m. HST. DoN and NASA representatives will be available during the open-house information sessions to answer questions and clarify information related to the Draft EIS. Attendees will be able to submit oral and written comments during the in-person public meetings. Oral comments from the public will be recorded by a court reporter and each speaker's comments will be limited to three (3) minutes. Equal weight will be given to oral and written statements.

A live-broadcast will commence during the presentation portion of the public meetings. The virtual attendees will have the ability and opportunity to provide comments orally after the in-person oral comment session. An audio-only option will be available during the virtual component of the public meeting. The project website has more information on attending the in-person/virtual public meetings.

Dated: June 9, 2025.
Emily A. Pellegrino,
Program Analyst, Office of the Executive Secretariat, National Aeronautics and Space Administration, Federal Register Liaison Officer.
A.R. DeMaio,
Lieutenant Commander, Judge Advocate General's Corps, U.S. Navy, Federal Register Liaison Officer.

[FR Doc. 2025-10684 Filed 6-20-25; 8:45 am]

BILLING CODE 3810-FF-P 7510-13-P